FEDERAL COMMUNICATIONS COMMISSION

47 CFR Part 73

[DA 00-167; MM Docket No. 00-13, RM-9679; MM Docket No. 00-14, RM-9803]

Radio Broadcasting Services; Aberdeen, Elma and Montesano, WA; Elkhorn City and Coal Run, KY

AGENCY: Federal Communications Commission.

ACTION: Proposed rule.

SUMMARY: This document proposes two reallotments. The Commission requests comments on a joint petition filed by KAYO Broadcasting and Marrow, Inc. proposing the reallotment of Channel 257C1 from Aberdeen to Elma Washington, and the modification of Station KAYO-FM's license accordingly; the substitution of Channel 271C2 for Channel 271C3 at Elma, the reallotment of Channel 271C2 from Elma to Montesano, Washington, and the modification of Station KAPV(FM)'s license accordingly. The Commission also requests comments on a petition filed by East Kentucky Broadcasting Corporation proposing the reallotment of Channel 276A from Elkhorn City to Coal Run, Kentucky, and the modification of Station WPKE-FM's license accordingly. Channel 257C1 can be reallotted to Elma in compliance with the Commission's minimum distance separation requirements with a site restriction of 14.5 kilometers (9.0 miles) west to avoid a short-spacing to the licensed site of Station KWJJ-FM, Channel 258C1, Portland, Oregon.

DATES: Comments must be filed on or before March 20, 2000, and reply comments on or before April 4, 2000.

ADDRESSES: Federal Communications Commission, Washington, DC 20554. In addition to filing comments with the FCC, interested parties should serve the petitioner, his counsel, or consultant, as follows: Peter Gutmann, Esq., Pepper & Corazzini, 1776 K Street, NW., Suite 200, Washington, DC 20006 (Counsel for KAYO Broadcasting and Marrow, Inc.); Patricia M. Chuh, Pepper & Corazzini, L.L.P., 1176 K Street, NW., Suite 200, Washington, DC. (Counsel for East Kentucky Broadcasting Corporation).

FOR FURTHER INFORMATION CONTACT: Sharon P. McDonald, Mass Media Bureau, (202) 418-2180.

SUPPLEMENTARY INFORMATION: This is a synopsis of the Commission's Notice of Proposed Rule Making, MM Docket No. 00-13; and MM Docket No. 00-14, adopted January 28, 2000 and released February 4, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

The coordinates for Channel 257C1 at Elma are 46-57-31 North Latitude and 123-35-18 West Longitude. An engineering analysis has determined that proposed allotment meets domestic spacing requirements, and that Channel 257C1 can be reallotted to Elma as a specially-negotiated, short-spaced allotment because it is short-spaced to the licensed site of Station CFOX(FM), Channel 257C, Vancouver, British Columbia, and to the proposed allotment of Channel 258A at Metchosin/Sooke, British Columbia Likewise, Channel 271C2 can be allotted to Montesano with a site restriction of 14.5 kilometers (9.0 miles) northwest to avoid a short-spacing to the licensed site of KINK-FM, Channel 270C, Portland, Oregon. The coordinates for Channel 271C2 at Montesano are 47-03-44 North Latitude and 123-44-44 West Longitude. Since Elma and Montesano, Washington are located within 320 kilometers (200 miles) of the U.S.-Canadian border, Canadian concurrence has been requested. In accordance with Section 1.420(i) of the Commission's Rules, we will not accept competing expressions of interest for use of Channel 257C1 at Elma, Washington, or for Channel 271C2 at Montesano, Washington, or require petitioner to demonstrate the availability of an equivalent class channel at Montesano for use by such parties.

Additionally, Channel 276A can be reallotted to Coal Run without the imposition of a site restriction. The coordinates for Channel 276A at Coal Run are 37-23-57 North Latitude and 82-30-32 West Longitude. In accordance with Section 1.420(i) of the Commission's Rules, we will not accept competing expressions of interest in the use of Channel 276A at Coal Run, Kentucky.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-3640 Filed 2-15-00; 8:45 am]

BILLING CODE 6712-01-P